DEPARTMENT OF DEFENSE

GENERAL SERVICES ADMINISTRATION

NATIONAL AERONAUTICS AND SPACE ADMINISTRATION

[OMB Control No. 9000-0064; Docket No. 2024-0053; Sequence No. 1]

Submission for OMB Review; Certain Federal Acquisition Regulation Part 36 Construction Contract Requirements

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision of a previously approved information collection requirement regarding certain Federal Acquisition Regulation (FAR) part 36 construction contract requirements.

DATES: Submit comments on or before April 10, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Zenaida Delgado, Procurement Analyst, at telephone 202-969-7207, or zenaida.delgado@gsa.gov.

SUPPLEMENTARY INFORMATION:

A. OMB Control Number, Title, and Any Associated Form(s)

9000-0064, Certain Federal Acquisition Regulation Part 36 Construction Contract Requirements.

B. Need and Uses

DoD, GSA, and NASA are combining OMB Control Nos. by FAR part. This consolidation is expected to improve industry's ability to easily and efficiently identify burdens associated with a given FAR part. This review of the information collections by FAR part allows improved oversight to ensure there is no redundant or unaccounted for burden placed on industry. Lastly, combining information collections in a given FAR part is also expected to reduce the administrative burden associated with processing multiple information collections.

This justification supports the extension of OMB Control No. 9000-0064 and combines it with the previously approved information collection under OMB Control No. 9000-0062, with the new title “Certain Federal Acquisition Regulation Part 36 Construction Contract Requirements”. Upon approval of this consolidated information collection, OMB Control No. 9000-0062 will be discontinued. The burden requirements previously approved under the discontinued number will be covered under OMB Control No. 9000-0064.

This clearance covers the information that contractors must submit to comply with the following FAR requirements:

• FAR 52.236-5, Material and Workmanship. This clause requires contractors to obtain contracting officer approval of the machinery, equipment, material, or articles to be incorporated into the work. The contractor's request must include: the manufacturer's name, the model number, and other information concerning the performance, capacity, nature, and rating of the machinery and mechanical and other equipment; and full information concerning the material or articles. When directed by the contracting officer, the contractor must submit samples of the items requiring approval for incorporating into the work. The contracting officer uses this information to determine whether the machinery, equipment, material, or articles meet the standards of quality specified in the contract. A contracting officer may reject work, if the contractor installs machinery, equipment, material, or articles in the work without obtaining the contracting officer's approval.

• FAR 52.236-13, Accident Prevention, Alternate I. This alternate to the basic clause requires contractors to submit a written proposed plan to provide and maintain work environments and procedures that will safeguard the public and Government personnel, property, materials, supplies, and equipment exposed to contractor operations and activities; avoid interruptions of Government operations and delays in project completion dates; and control costs in the performance of this contract. The plan must include an analysis of the significant hazards to life, limb, and property inherent in contract work performance and a plan for controlling these hazards. The contracting officer and technical representatives analyze the Accident Prevention Plan to determine if the proposed plan will satisfy the safety requirements identified in the contract, to include certain provisions of the Occupational Safety and Health Act (per FAR 36.513(c)) and applicable standards issued by the Secretary of Labor at 29 CFR part 1926 and 29 CFR part 1910.

• FAR 52.236-15, Schedules for Construction Contracts. This clause requires contractors to prepare and submit to the contracting officer for approval three copies of a practicable schedule showing the order in which the contractor proposes to perform the work, and the dates on which the contractor contemplates starting and completing the several salient features of the work (including acquiring materials, plant, and equipment). The contracting officer uses this information to monitor progress under a Federal construction contract when other management approaches for ensuring adequate progress are not used.

• FAR 52.236-19, Organization and Direction of the Work. This clause requires contractors, under cost-reimbursement construction contracts, to submit to the contracting officer a chart showing the general executive and administrative organization, the personnel to be employed in connection with the work under the contract, and their respective duties. The contractor must keep the data furnished current by supplementing it as additional information becomes available. The contracting officer uses this information to ensure the work is performed by qualified personnel at a reasonable cost to the Government.

C. Annual Burden

Respondents: 3,771.

Total Annual Responses: 13,267.

Total Burden Hours: 21,338.

D. Public Comment

A 60-day notice was published in the Federal Register at 89 FR 786, on January 5, 2024. No comments were received.

Obtaining Copies: Requesters may obtain a copy of the information collection documents from the GSA Regulatory Secretariat Division, by calling 202-501-4755 or emailing GSARegSec@gsa.gov. Please cite OMB Control No. 9000-0064, Certain Federal Acquisition Regulation Part 36 Construction Contract Requirements.

Janet Fry,
Director, Federal Acquisition Policy Division, Office of Governmentwide Acquisition Policy, Office of Acquisition Policy, Office of Governmentwide Policy.

[FR Doc. 2024-05107 Filed 3-8-24; 8:45 am]

BILLING CODE 6820-EP-P